DEPARTMENT OF COMMERCE

International Trade Administration

[C-570-009]

Calcium Hypochlorite From the People's Republic of China: Preliminary Intent To Rescind the New Shipper Review of Haixing Jingmei Chemical Products Sales Co., Ltd.

AGENCY: Enforcement and Compliance, International Trade Administration, Department of Commerce.

SUMMARY: In response to a November 20, 2015, request from Haixing Jingmei Chemical Products Sales Co., Ltd. (“Jingmei”), and the producer of its merchandise, Haixing Eno Chemical Co., Ltd. (“Eno”), the Department of Commerce (“Department”) is conducting a new shipper review of Jingmei, regarding the countervailing duty order on calcium hypochlorite from the People's Republic of China (“PRC”). The period of review (“POR”) is May 27, 2014, through December 31, 2015. The Department preliminarily determines to rescind this review because we requested but were not provided sufficient information to determine whether, and conclude that, Jingmei's sale of subject merchandise to the United States was bona fide. Interested parties are invited to comment on this preliminary intent to rescind.

DATES: Effective January 3, 2017.

FOR FURTHER INFORMATION CONTACT: Elizabeth Lobaugh, AD/CVD Operations, Office V, Enforcement and Compliance, International Trade Administration, U.S. Department of Commerce, 14th Street and Constitution Avenue NW., Washington, DC 20230; telephone: (202) 482-7425.

SUPPLEMENTARY INFORMATION:

Background

On March 4, 2016, the Department published notice of initiation of a new shipper review of calcium hypochlorite from the PRC for the period May 27, 2014, through December 31, 2015.¹ On July 12, 2016, the Department extended the deadline for the preliminary results to December 27, 2016.²

¹ See Calcium Hypochlorite from the People's Republic of China: Initiation of Countervailing Duty New Shipper Review; 2014-2015, 81 FR 11516 (March 4, 2016) (“Initiation”).

² See Memorandum to the File through James C. Doyle, Director, Office V, to Christian Marsh, Deputy Assistant Secretary for Antidumping and Countervailing Duty Operations “Extension of Deadline for Preliminary Results of Countervailing Duty New Shipper Review; 2014-2015” (November 5, 2015).

Scope of the Order

The merchandise covered by the Order is calcium hypochlorite, regardless of form (e.g., powder, tablet (compressed), crystalline (granular), or in liquid solution), whether or not blended with other materials, containing at least 10% available chlorine measured by actual weight. Calcium hypochlorite is currently classifiable under the subheading 2828.10.0000 of the Harmonized Tariff Schedule of the United States.³

³ See Memorandum to Paul Piquado, Assistant Secretary for Enforcement and Compliance, from Christian Marsh, Deputy Assistant Secretary for Antidumping and Countervailing Duty Operations “Decision Memorandum for the Preliminary Results of the Countervailing Duty New Shipper Review of Calcium Hypochlorite from the People's Republic of China: Haixing Jingmei Chemical Products Sales Co., Ltd.” dated concurrently with and hereby adopted by this notice (“Preliminary Decision Memorandum”) for a complete description of the Scope of the Order.

Methodology

The Department is conducting this review in accordance with section 751(a)(2)(B) of the Tariff Act of 1930, as amended (“the Act”) and 19 CFR 351.214. For a full description of the methodology underlying our conclusions, see the Preliminary Decision Memorandum.

The Preliminary Decision Memorandum is a public document and is on file electronically via Enforcement and Compliance's Antidumping and Countervailing Duty Centralized Electronic Service System (“ACCESS”). ACCESS is available to registered users at http://access.trade.gov and in the Department's Central Records Unit, Room B8024 of the main Department of Commerce building. In addition, a complete version of the Preliminary Decision Memorandum can be accessed directly on the Internet at http://enforcement.trade.gov/frn/. The signed Preliminary Decision Memorandum and the electronic versions of the Preliminary Decision Memorandum are identical in content.

Preliminary Intent To Rescind Jingmei New Shipper Review

Section 751(a)(2)(B)(iv) of the Act requires that a countervailing duty rate determined in a new shipper review be determined based solely on bona fide sales. For the reasons detailed in the Preliminary Decision Memorandum and the Bona Fide Sales Analysis Memorandum,⁴ the Department preliminarily finds that, as a result of Jingmei's customers' failure to provide necessary information, we cannot determine whether, and conclude that, Jingmei's sale under review is bona fide. As a result, the Department preliminarily intends to rescind the new shipper review of Jingmei.

⁴ See Memorandum to James Doyle, Director, Office V, Antidumping and Countervailing Duty Operations, through Catherine Bertrand, Program Manager, Office V, Antidumping and Countervailing Duty Operations, from Elizabeth Lobaugh, International Trade Analyst, titled “Bona Fide Nature of the Sale in the Countervailing Duty New Shipper Review of Calcium Hypochlorite from the People's Republic of China: Haixing Jingmei Chemical Products Sales Co., Ltd.” dated concurrently with this notice.

Public Comment

Interested parties may submit written comments by no later than 30 days after the date of publication of these preliminary results of review.⁵ Rebuttals, limited to issues raised in the written comments, may be filed by no later than five days after the written comments are filed.⁶

⁵ See 19 CFR 351.309(c).

⁶ See 19 CFR 351.309(d).

Any interested party may request a hearing within 30 days of publication of this notice.⁷ Hearing requests should contain the following information: (1) The party's name, address, and telephone number; (2) the number of participants; and (3) a list of the issues to be discussed. Oral presentations will be limited to issues raised in the briefs. If a request for a hearing is made, parties will be notified of the time and date for the hearing to be held at the U.S. Department of Commerce, 1401 Constitution Avenue NW., Washington, DC 20230.⁸

⁷ See 19 CFR 351.310(c).

⁸ See 19 CFR 351.310(d).

The Department intends to issue the final results of this new shipper review, which will include the results of its analysis of issues raised in any such comments, not later than 90 days after the date these preliminary results of new shipper review are issued, pursuant to section 751(a)(2)(B)(iii)) of the Act.

Assessment Rates

Upon completion of the final results, pursuant to 19 CFR 351.212(b), the Department will determine, and the U.S. Customs and Border Protection (“CBP”) shall assess, countervailing duties on all appropriate entries. If we proceed to a final rescission of the new shipper review, the assessment rate to which Jingmei's entries will be subject will not be affected by this review. If we do not proceed to a final rescission of the new shipper review, pursuant to 19 CFR 351.212(b)(2), we will calculate a countervailing duty rate. We intend to instruct CBP to assess countervailing duties on all appropriate entries covered by this review if any countervailing duty rate calculated in the final results of this review is above de minimis.⁹

⁹ See 19 CFR 351.106(c)(2).

Cash Deposit Requirements

Effective upon publication of the final rescission or the final results of this new shipper review, we will instruct CBP to discontinue the option of posting a bond or security in lieu of a cash deposit for entries of subject merchandise by Jingmei. If the Department proceeds to a final rescission of the new shipper review, the cash deposit rate will continue to be the all-others rate. If we issue final results of the new shipper review for Jingmei, we will instruct CBP to collect cash deposits, effective upon the publication of the final results, at the rates established therein.

The Department is issuing and publishing these results in accordance with sections 751(a)(2)(B) and 777(i)(l) of the Act, and 19 CFR 351.214 and 19 CFR 351.221(b)(4).

Dated: December 27, 2016.
Paul Piquado,
Assistant Secretary for Enforcement and Compliance.

Appendix—List of Topics Discussed in the Preliminary Decision Memorandum

I. Summary

II. Background

III. Scope of the Order

IV. Discussion of the Methodology

V. Recommendation

[FR Doc. 2016-31793 Filed 12-30-16; 8:45 am]

BILLING CODE 3510-DS-P